DEPARTMENT OF THE TREASURY

Internal Revenue Service

26 CFR Parts 1 and 602

[Docket No. TD-9497]

RIN 1545-BI97

Guidance Regarding Deferred Discharge of Indebtedness Income of Corporations and Deferred Original Issue Discount Deductions

Correction

In rule document 2010-20060 beginning on page 49394 in the issue of Friday, August 13, 2010 make the following corrections:

1. On page 49397, in the third column, the heading should read “2. Exception for Distributions and Charitable Contributions Consistent with Historical Practice —In General”.

2. On page 49400, in the third column, in the second full paragraph, in line six “occurring prior to August 11, 2010 by taking a return position consistent with these provisions” should read “occurring prior to August 11, 2010, by taking a return position consistent with these provisions”.

§1.108(i)-0T [Corrected]

3. On page 49402, in the second column, (b)(2)(i), on the fifth line, “2010 However, an electing corporation ” should read “2010. However, an electing corporation”.

§1.108(i)-1T [Corrected]

4. On page 49403, in the first column, (b)(2)(B)(iv), in line six “deemed dividend all the earnings and” should read “deemed dividend the all earnings and”.

[FR Doc. C1-2010-20060 Filed 9-17-10; 8:45 am]

BILLING CODE 1505-01-D